DEPARTMENT OF COMMERCE

International Trade Administration

[A-823-808]

Ammendment to the Agreement Between the United States Department of Commerce and the Government of Ukraine Suspending the Antidumping Investigation on Cut-to-Length Carbon Steel Plate from Ukraine

Correction

In notice document 03-526 beginning on page 1438 in the issue of Friday, January 10, 2003, make the following corrections:

1. On page 1439, in the first column, in the sixth line from the bottom, “December 20, 2002” should read, “January 2, 2003”.

2. On the same page, in the same column, after the signature section, please insert the following text:ÿ7E

Amendment to the Antidumping Suspension Agreement on Certain Cut-to-Length Carbon Steel Plate Between the United States Department of Commerce and the Government of Ukraine

The United States Department of Commerce (the Department) and the Government of Ukraine hereby amend section XII of the Agreement Suspending the Antidumping Investigation on Certain Cut-to-Length Carbon Steel Plate from Ukraine, signed October 24, 1997, by adding the following language immediately after the first sentence of section XII:

In order to provide for the continuation of exports of cut-to-length plate from Ukraine to the United States during and immediately following the five-year review by the Department and the International Trade Commission pursuant to section 751(c) of the Tariff Act, the export limits provided for in section III of this Agreement shall remain in force through November 1, 2003.

If, after said date, the underlying proceeding remains suspended, the Government of Ukraine and the Department will enter into consultations to agree upon export limits in order to permit future shipments under the Agreement. If, prior to said date, the underlying proceeding is terminated as a result of the sunset review or the administrative review, the Agreement, this Amendment and the export limits contained therein will be terminated.

For the United States Department of Commerce.
Dated: December 20, 2002.
Faryar Shirzad,
Assistant Secretary for Import Administration.
For the Ministry of Economy and European Integration of Ukraine.
Dated: December 20, 2002.
Andriy I. Goncharuk,
State Secretary on Trade,Ministry of Economy and European Integration of Ukraine.

[FR Doc. C3-526 Filed 1-30-03; 8:45 am]

BILLING CODE 1505-01-D

FEDERAL ELECTION COMMISSION

11 CFR Part 104

[Notice 2002-26]

Bipartisan Campaign Reform Act of 2002 Reporting

Correction

In rule document 03-91 beginning on page 421 in the issue of Friday, January 3, 2003, make the following correction:

§104.20 [Corrected]

On page 419, in the third column, in §104.20 (a)(5), “11 CFR 100.29(a)(3)”, should read “11 CFR 100.29 (b)(3)”.

[FR Doc. C3-91 Filed 1-30-03; 8:45 am]

BILLING CODE 1505-01-D

DEPARTMENT OF JUSTICE

[AAG/A Order No. 003-2003]

Privacy Act of 1974; System of Records

Correction

In notice document 03-1671 beginning on page 3894 in the issue of Monday, January 27, 2003, make the following correction:

On page 3894, in the third column, in the first three lines “[insert date 30 days after publication in the Federal Register]”, should read “February 26, 2003”.

[FR Doc. C3-1671 Filed 1-30-03; 8:45 am]

BILLING CODE 1505-01-D

DEPARTMENT OF THE TREASURY

Office of the Comptroller o fthe Currency

12 CFR Part 19

[Docket No. 02-15]

RIN 1557-AB43

BOARD OF GOVERNORS OF THE FEDERAL RESERVE SYSTEM

12 CFR Part 263

[Docket No. R-1139]

FEDERAL DEPOSIT INSURANCE CORPORATION

12 CFR Part 308

RIN 3064-AC57

DEPARTMENT OF THE TREASURY

Office of Thrift Supervision

12 CFR Part 513

[No. 2002-58]

RIN 1550-AB53

Removal, Suspension, and Debarment of Accountants From Performing Audit Services

Correction

In proposed rule document 03-98 beginning on page 1116 in the issue of Wednesday, January 8, 2003, make the following correction:

On page 1117, in the third column, above the footnotes, in the last line, after “effective;¹¹”, add “engages”.

[FR Doc. C3-98 Filed 1-30-03; 8:45 am]

BILLING CODE 1505-01-D